DEPARTMENT OF AGRICULTURE

Animal and Plant Health Inspection Service

[Docket No. APHIS-2023-0049]

Notice of Request for Revision to and Extension of Approval of an Information Collection; Importation of Live Swine, Pork and Pork Products, and Swine Semen From the European Union

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the importation of live animals, animal germplasm, and animal products into the United States from the European Union.

DATES: We will consider all comments that we receive on or before August 28, 2023.

ADDRESSES: You may submit comments by either of the following methods:

• Federal eRulemaking Portal: Go to www.regulations.gov. Enter APHIS-2023-0049 in the Search field. Select the Documents tab, then select the Comment button in the list of documents.

• Postal Mail/Commercial Delivery: Send your comment to Docket No. APHIS-2023-0049, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the importation of animals and animal products into the United States from the European Union, contact Dr. Alexandra MacKenzie, Senior Veterinary Medical Officer, Live Animal Imports/Ruminants, Swine, Semen, and Embryos, Strategy and Policy, VS, APHIS, 4700 River Road, Unit 39, Riverdale, MD 20737; (301) 851-3411; email: alexandra.mackenzie@usda.gov. For more information on the information collection reporting process, contact Mr. Joseph Moxey, APHIS' Paperwork Reduction Act Coordinator, at (301) 851-2483; joseph.moxey@usda.gov.

SUPPLEMENTARY INFORMATION:

Title: Importation of Live Swine, Pork and Pork Products, and Swine Semen From the European Union.

OMB Control Number: 0579-0218.

Type of Request: Revision to and extension of approval of an information collection.

Abstract: Under the Animal Health Protection Act (7 U.S.C. 8301 et seq.), the Animal and Plant Health Inspection Service (APHIS) of the U.S. Department of Agriculture, among other things, has the authority to detect, control, or eradicate pests or diseases of livestock or poultry. The Secretary may also prohibit or restrict the import or export of any animal or related material if necessary to prevent the spread of any livestock or poultry pest or disease. Disease prevention is the most effective method for maintaining a healthy animal population and for enhancing APHIS' ability to compete in the world market of animal and animal product trade.

In connection with its disease prevention mission, APHIS regulates the importation of animals and animal products into the United States to guard against the introduction of animal diseases not present or prevalent in the United States. The regulations in 9 CFR parts 93, 94, and 98, prohibit or restrict the importation of specified animals, germplasm, and animal products to prevent the introduction of diseases such as classical swine fever (CSF), foot-and-mouth disease, swine vesicular disease, and African swine fever. In part 93, subpart E, among other things, provides importation requirements for live swine. Sections 94.2, 94.4, 94.8, 94.9, and 94.12 through 94.14 deal with the importation of pork and pork products from regions where these diseases exist. Section 94.10 addresses the requirements for the importation of live swine from regions where CSF exists. Section 94.13 concerns restrictions on the importation of pork or pork products from specified regions. Section 98.38 defines APHIS' requirements for the importation of swine semen.

APHIS determined that breeding swine, pork and pork products, and swine germplasm imported from specific regions of the European Union (EU) in accordance with other APHIS import requirements, pose a low risk of introducing foreign animal diseases into the United States. To further ensure that CSF is not introduced into the United States, regulations in parts 93, 94, and 98 allow, under specified conditions, the importation of live swine, pork and pork products, and swine germplasm from the APHIS-defined EU CSF region. These requirements necessitate the use of several information collection activities, including certification statements for the importation of pork, pork products, live swine, and swine germplasm.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.96 hours per response.

Respondents: Foreign animal health officials and importers of live swine, pork and pork products, and swine semen.

Estimated annual number of respondents: 16.

Estimated annual number of responses per respondent: 473.

Estimated annual number of responses: 7,566.

Estimated total annual burden on respondents: 7,230 hours. (Due to averaging, the total annual burden hours may not equal the product of the annual number of responses multiplied by the reporting burden per response.)

All responses to this notice will be summarized and included in the request for OMB approval. All comments will also become a matter of public record.

Done in Washington, DC, this 23rd day of June 2023.
Michael Watson,
Acting Administrator, Animal and Plant Health Inspection Service.

[FR Doc. 2023-13803 Filed 6-28-23; 8:45 am]

BILLING CODE 3410-34-P